DEPARTMENT OF HEALTH AND HUMAN SERVICES

Substance Abuse and Mental Health Services Administration

Meeting of the Substance Abuse and Mental Health Services Administration, Center for Mental Health Services National Advisory Council

AGENCY: Substance Abuse and Mental Health Services Administration, HHS.

ACTION: Notice.

SUMMARY: Notice is hereby given of the meeting on August 18, 2022 of the Substance Abuse and Mental Health Services Administration (SAMHSA), Center for Mental Health Services National Advisory Council (CMHS NAC). The meeting will include consideration of the minutes from the March 29, 2022, SAMHSA, CMHS NAC meeting; updates from the CMHS Director; updates from the Office of the Assistant Secretary, and council discussions.

DATES: Thursday, August 18, 2022, 10:00 a.m. to 4:00 p.m., EDT, (OPEN).

ADDRESSES: The meeting is open to the public and can be accessed virtually only by accessing: https://www.zoomgov.com/j/1608093739?pwd=M01ubE1nVENzZzZHT3drc0dUYWVLUT09 or by dialing 669-254-5252, webinar ID: 160 809 3739, passcode: 730918. Agenda with call-in information will be posted on the SAMHSA website prior to the meeting at: https://www.samhsa.gov/about-us/advisory-councils/meetings.

FOR FURTHER INFORMATION CONTACT: Pamela Foote, Designated Federal Officer, CMHS National Advisory Council, 5600 Fishers Lane, Room 14E57B, Rockville, Maryland 20857, Telephone: (240) 276-1279, Fax: (301) 480-8491, Email: pamela.foote@samhsa.hhs.gov.

SUPPLEMENTARY INFORMATION: The CMHS NAC is required to meet at least twice per fiscal year.

To attend virtually, submit written or brief oral comments, or request special accommodation for persons with disabilities, contact Pamela Foote. Individuals can also register on-line at: https://snacregister.samhsa.gov/.

The public comment section will be scheduled at the conclusion of the meeting. Individuals interested in submitting a comment, must notify Pamela Foote on or before August 2, 2022 via email to: Pamela.Foote@samhsa.hhs.gov.

Up to three minutes will be allotted for each approved public comment as time permits. Written comments received in advance of the meeting will be considered for inclusion in the official Record of the Meeting.

Meeting information and a roster of Council members may be obtained by accessing the SAMHSA website at: http://www.samhsa.gov/about-us/advisory-councils/cmhs-national-advisory-council or by contacting the CMHS NAC Designated Federal Officer; Pamela Foote.

Council Name: Substance Abuse and Mental Health Services Administration Center for Mental Health Services National Advisory Council.

Dated: June 14, 2022.
Carlos Castillo,
Committee Management Officer, SAMHSA.

[FR Doc. 2022-13180 Filed 6-21-22; 8:45 am]

BILLING CODE 4162-20-P